DEPARTMENT OF TRANSPORTATION

Federal Aviation Administration

14 CFR Part 39

[Docket No. FAA-2012-0756; Directorate Identifier 2012-CE-012-AD]

RIN 2120-AA64

Airworthiness Directives; Piper Aircraft, Inc. Airplanes

AGENCY: Federal Aviation Administration (FAA), DOT.

ACTION: Proposed rule; withdrawal.

SUMMARY: This document withdraws a notice of proposed rulemaking (NPRM) that would have applied to all Piper Aircraft, Inc. (type certificate previously held by The New Piper Aircraft Inc.) Models PA-18 and PA-19 airplanes. The proposed airworthiness directive (AD) would have required either moving all toggle-style magneto switches located on the left cabin panel, adjacent to the front seat, away from this position; or replacing these switches with FAA-approved, non-keyed, rotary-style switches. Since issuance of the NPRM, the FAA has re-evaluated this airworthiness concern and determined that an unsafe condition does not exist that would warrant AD action. This withdrawal does not prevent the FAA from initiating future rulemaking on this subject.

FOR FURTHER INFORMATION CONTACT: Gary Wechsler, Aerospace Engineer, FAA, Atlanta Aircraft Certification Office, 1701 Columbia Avenue, College Park, Georgia 30337; phone: (404) 474-5575; fax: (404) 474-5606; email: gary.wechsler@faa.gov.

SUPPLEMENTARY INFORMATION:

Discussion

We issued a notice of proposed rulemaking (NPRM) to amend 14 CFR part 39 to include an AD that would apply to the specified products. That NPRM published in the Federal Register on July 19, 2012 (77 FR 42455). That NPRM proposed to require you to either move all toggle-style magneto switches located on the left cabin panel, adjacent to the front seat, away from this position; or replace these switches with FAA-approved, non-keyed, rotary-style switches.

Because of the comments received on the NPRM (77 FR 42455, July 19, 2012), the FAA re-evaluated the data collected on the safety concern and concluded that:

• an unsafe condition warranting AD action does not exist; and

• the associated level of risk does not warrant AD action.

To mitigate the safety concern from recurring, the FAA may take another airworthiness action such as a special airworthiness information bulletin (SAIB) to recommend the actions contained in the proposed rule and capture the concerns identified by the public during the NPRM (77 FR 42455, July 19, 2012) comment period.

Withdrawal of this NPRM (77 FR 42455, July 19, 2012) constitutes only such action and does not preclude the agency from issuing future rulemaking on this issue, nor does it commit the agency to any course of action in the future.

Regulatory Findings

Since this action only withdraws an NPRM, it is neither a proposed nor a final rule and therefore, is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking (NPRM), FAA-2012-0756, published in the Federal Register on July 19, 2012 (77 FR 42455), is withdrawn.

Issued in Kansas City, Missouri, on May 1, 2013.
Earl Lawrence,
Manager, Small Airplane Directorate, Aircraft Certification Service.

[FR Doc. 2013-10786 Filed 5-6-13; 8:45 am]

BILLING CODE 4910-13-P